Title 3—

The President

Proclamation 7360 of November 22, 2002

National Family Week, 2002

By the President of the United States of America

A Proclamation

Families provide a loving environment where children can flourish; and they help ensure that cultural traditions and timeless values are passed on to future generations. During National Family Week, we reaffirm the importance of families as a vital source of strength, confidence, and compassion for all of our citizens.

Strong families play a critical role in developing the character of our Nation. They teach children important standards of conduct such as accepting responsibility, respecting others, and distinguishing the difference between right and wrong. By helping America's youth to grow into mature, thoughtful, and caring citizens, families help make our communities and our Nation safer and more civilized.

Raising a child requires sacrifice, commitment, and time; and we must expand our efforts to strengthen and empower families so that they can prepare children more effectively for the challenges of adulthood. We know that by helping couples to build and sustain strong, two-parent families, we will contribute to the well-being of our children and the strength of our society. Many single parents, grandparents, and others also raise their children in difficult circumstances, and these dedicated individuals deserve our respect and support.

My Administration is firmly committed to helping our Nation's youth reach their full potential; and one of the most important ways to do this is by strengthening America's families. Earlier this year, I signed bipartisan legislation to expand the Promoting Safe and Stable Families Program, which provides States with vital resources to help families stay together and to promote adoption. The Program seeks to prevent child abuse and neglect, avoid removing children from their homes, support family reunification services, and help those children who are unable to return home by providing crucial adoption and post-adoptive services. These important resources benefit families across our Nation and hold the promise of a bright future for countless young people.

My welfare reform agenda also will strengthen families. We plan on continuing to provide historically high levels of support for childcare and child support enforcement. And we will continue to encourage strong marriages and two-parent married families as a worthy policy goal.

No marriage or family is perfect. But through education and counseling programs that our faith-based, charitable, and government communities can provide, we will support couples as they work to build and sustain healthy marriages and strive to provide a better quality of life for their children. By promoting responsible child-rearing and strong families, my Administration will work towards the goal that every child has the opportunity to grow up in a safe and loving home.

As families come together to celebrate this Thanksgiving, I encourage every member of a family in America to recognize the important role every other family member plays in making their lives whole and more complete. And as we give thanks for the love, commitment, and encouragement our families provide, we must recommit ourselves to strengthen our Nation by strengthening our families in ways that government never can.

NOW, THEREFORE, I, GEORGE W. BUSH, President of the United States of America, by virtue of the authority vested in me by the Constitution and laws of the United States, do hereby proclaim November 24 through November 30, 2002, as National Family Week. I invite the States, communities, and people of the United States to join together in observing this day with appropriate ceremonies and activities to honor our Nation's families.

IN WITNESS WHEREOF, I have hereunto set my hand this twenty-second day of November, in the year of our Lord two thousand two, and of the Independence of the United States of America the two hundred and twenty-seventh.

B

[FR Doc. 02-30376

Filed 11-26-02; 8:50am]

Billing code 3195-01-P